DEPARTMENT OF COMMERCE

Foreign-Trade Zones Board

[B-70-2018]

Foreign-Trade Zone (FTZ) 52—Suffolk, County, New York; Authorization of Production Activity; LNK International, Inc. (Pharmaceutical Products), Hauppauge, New York

On November 5, 2018, Suffolk County, New York, grantee of FTZ 52, submitted a notification of proposed production activity to the FTZ Board on behalf of LNK International, Inc., within Subzone 52B, in Hauppauge, New York.

The notification was processed in accordance with the regulations of the FTZ Board (15 CFR part 400), including notice in the Federal Register inviting public comment (83 FR 56800, November 14, 2018). On April 15, 2019, the applicant was notified of the FTZ Board's decision that no further review of the activity is warranted at this time. The production activity described in the notification was authorized, subject to the FTZ Act and the FTZ Board's regulations, including Section 400.14.

Dated: April 15, 2019.
Andrew McGilvray,
Executive Secretary.

[FR Doc. 2019-07907 Filed 4-18-19; 8:45 am]

BILLING CODE 3510-DS-P